DEPARTMENT OF TRANSPORTATION

Federal Aviation Administration

14 CFR Part 39

[Docket No. 2002-NM-278-AD; Amendment 39-13608; AD 2004-09-19]

RIN 2120-AA64

Airworthiness Directives; Airbus Model A319 and A320 Series Airplanes

AGENCY: Federal Aviation Administration, DOT.

ACTION: Final rule.

SUMMARY: This amendment adopts a new airworthiness directive (AD), applicable to certain Airbus Model A319 and A320 series airplanes, that requires modifying the electrical bonding of the fuel return line in each wing between ribs 7 and 8. This action is necessary to reduce the potential for electrical arcing within the fuel tank due to insufficient electrical bonding, which could result in a fire or explosion in the fuel tank. This action is intended to address the identified unsafe condition.

DATES: Effective June 9, 2004.

The incorporation by reference of a certain publication listed in the regulations is approved by the Director of the Federal Register as of June 9, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A319 and A320 series airplanes was published in the Federal Register on February 6, 2004 (69 FR 5794). That action proposed to require modifying the electrical bonding of the fuel return line in each wing between ribs 7 and 8.

Comments

Interested persons have been afforded an opportunity to participate in the making of this amendment. The FAA has duly considered the single comment received.

The commenter supports the proposed rule.

Explanation of Change to Final Rule

The proposed AD states that the subject of the proposed AD is addressed in French airworthiness directive 2002-476(B), dated September 18, 2002. Since the preparation of the proposed AD, the Direction Générale de l'Aviation Civile (DGAC), which is the airworthiness authority for France, has issued French airworthiness directive F-2002-476 R1, dated January 21, 2004. This French airworthiness directive clarifies the applicability for one subject airplane.

The new French airworthiness directive does not affect the content of the proposed AD. Thus, the only change to this final rule as a result of the issuance of the new French airworthiness directive is that we have revised Note 1 of this final rule to refer to French airworthiness directive F-2002-476 R1.

Difference Between the French Airworthiness Directive and This AD

The applicability of French airworthiness directive F-2002-476 R1 excludes airplanes on which Airbus Service Bulletin A320-28-1103 has been accomplished in service. However, we have not excluded those airplanes from the applicability of this AD. Rather, this AD includes a requirement to accomplish the actions specified in that service bulletin. Such a requirement ensures that the actions specified in the service bulletin and required by this AD are accomplished on all affected airplanes. Operators must continue to operate the airplane in the configuration required by this AD unless an alternative method of compliance is approved.

Conclusion

After careful review of the available data, including the comment noted above, we have determined that air safety and the public interest require the adoption of the rule with the change described previously. We have determined that this change will neither increase the economic burden on any operator nor increase the scope of the AD.

Cost Impact

We estimate that 534 airplanes of U.S. registry will be affected by this AD, that it will take approximately 3 work hours per airplane to accomplish the required actions, and that the average labor rate is $65 per work hour. Required parts will cost approximately $100 per airplane. Based on these figures, the cost impact of this AD on U.S. operators is estimated to be $157,530, or $295 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-19 Airbus: Amendment 39-13608. Docket 2002-NM-278-AD.

Applicability: Model A319 and A320 series airplanes, certificated in any category; except those on which Airbus Modification 31888 has been accomplished.

Compliance: Required as indicated, unless accomplished previously.

To reduce the potential for electrical arcing within the fuel tank due to insufficient electrical bonding, which could result in a fire or explosion in the fuel tank, accomplish the following:

Modification of Electrical Bonding

(a) Within 60 months after the effective date of this AD, modify the electrical bonding of the fuel return line in each wing between ribs 7 and 8, by installing a grounding tag to a certain check valve attachment bolt; installing bonding leads between the check valve, the fuel return line, and the adjacent rib 8; and performing an electrical bonding resistance test; per the Accomplishment Instructions of Airbus Service Bulletin A320-28-1103, Revision 01, dated April 1, 2003. If the electrical resistance test of any bonding lead fails: Before further flight, disassemble the bonding lead, repeat the applicable cleaning procedures, reassemble the bonding lead, and repeat the electrical resistance test per the Accomplishment Instructions of the service bulletin.

Credit for Actions Accomplished Previously

(b) Actions accomplished before the effective date of this AD per Airbus Service Bulletin A320-28-1103, dated June 14, 2002, are acceptable for compliance with the corresponding actions required by paragraph (a) of this AD.

Alternative Methods of Compliance

(c) In accordance with 14 CFR 39.19, the Manager, International Branch, ANM-116, Transport Airplane Directorate, FAA, is authorized to approve alternative methods of compliance for this AD.

Incorporation by Reference

(d) Unless otherwise specified in this AD, the actions shall be done in accordance with Airbus Service Bulletin A320-28-1103, Revision 01, dated April 1, 2003. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the National Archives and Records Administration (NARA). For information on the availability of this material at NARA, call 202-741-6030, or go to: http://www.archives.gov/federal_register/code_of_federal_regulations/ibr_locations.html.

Note 1: The subject of this AD is addressed in French airworthiness directive F-2002-476 R1, dated January 21, 2004.

Effective Date

(e) This amendment becomes effective on June 9, 2004.

Issued in Renton, Washington, on April 26, 2004.
Kalene C. Yanamura,
Acting Manager, Transport Airplane Directorate, Aircraft Certification Service.

[FR Doc. 04-10019 Filed 5-4-04; 8:45 am]

BILLING CODE 4910-13-P